DEPARTMENT OF ENERGY

Federal Energy Regulatory Commission

Notice of Availability of Environmental Assessment

BOST5 Hydroelectric LLC | Project No. 12758-004
BOST4 Hydroelectric LLC | Project No. 12757-004
BOST3 Hydroelectric LLC | Project No. 12756-003

In accordance with the National Environmental Policy Act of 1969 and the Federal Energy Regulatory Commission (Commission or FERC) regulations, 18 Code of Federal Regulations (CFR). Part 380 (Order No. 486, 52 Federal Register 47897), the Office of Energy Projects has reviewed the applications for original licenses for the Red River Lock and Dam No. 5 Hydroelectric Project (FERC Project No. 12758-004), Red River Lock and Dam No. 4 Hydroelectric Project (FERC Project No. 12757-004), and Red River Lock and Dam No. 3 Hydroelectric Project (FERC Project No. 12756-003). The proposed projects would be located on the Red River in Louisiana. The Lock and Dam No. 5 Project would be located in Bossier Parish, near the Town of Ninock, Louisiana, at the U.S. Army Corps of Engineers' (Corps) Lock and Dam No. 5 at river mile (RM) 200 and would occupy 69.9 acres of federal lands managed by the Corps. The Lock and Dam No. 4 Project would be located in Red River Parish, near the Town of Coushatta, Louisiana, at the Corps' Lock and Dam No. 4 at RM 168.5 and would occupy 135.1 acres of federal lands managed by the Corps. The Lock and Dam No. 3 Project would be located in Natchitoches Parish, near the Town of Colfax, Louisiana, at the Corps' Lock and Dam No. 3 at RM 116.5 and would occupy 60.2 acres of federal lands managed by the Corps.

Staff prepared a multi-project environmental assessment (EA), which analyzes the potential environmental effects of licensing the three projects, and concludes that licensing the projects, with appropriate environmental protection measures, would not constitute a major federal action that would significantly affect the quality of the human environment.

A copy of the EA is available for review at the Commission in the Public Reference Room or may be viewed on the Commission's Web site at http://www.ferc.gov using the “eLibrary” link. Enter the docket number excluding the last three digits, in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

Any comments should be filed within 30 days from the issuance date of this notice. Comments may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support.

Although the Commission strongly encourages electronic filing, documents may also be paper-filed. To paper-file, mail an original and five copies to: Kimberly D. Bose, Secretary, Federal Energy Regulatory Commission, 888 First Street NE., Washington, DC 20426. Please affix “Red River Lock and Dam No. 5 Hydroelectric Project No. 12758-004, Red River Lock and Dam Hydroelectric Project No. 4 No. 12757-004, and/or Red River Lock and Dam No. 3 Hydroelectric Project No. 12756-003” as appropriate to all comments.

For further information, contact Jeanne Edwards at (202) 502-6181, or by email at jeanne.edwards@ferc.gov.

Dated: June 28, 2013.
Kimberly D. Bose,
Secretary.

[FR Doc. 2013-16322 Filed 7-8-13; 8:45 am]

BILLING CODE 6717-01-P